DEPARTMENT OF DEFENSE

Defense Acquisition Regulations System

48 CFR Part 225

Defense Federal Acquisition Regulation Supplement; Technical Amendments

AGENCY: Defense Acquisition Regulations System, Department of Defense (DoD).

ACTION: Final rule.

SUMMARY: DoD is making technical amendments to the Defense Federal Acquisition Regulation Supplement (DFARS) to direct contracting officers to additional guidance on supporting contingency operations and in-theater security cooperation efforts.

DATES: Effective Date: May 11, 2011.

FOR FURTHER INFORMATION CONTACT: Ms. Ynette Shelkin, Defense Acquisition Regulations System, OUSD(AT&L)DPAP(DARS), Room 3B855, 3060 Defense Pentagon, Washington, DC 20301-3060. Telephone 703-602-8384; facsimile 703-602-0350.

SUPPLEMENTARY INFORMATION: This final rule amends DFARS by adding language at 225.7404 to direct contracting officers to additional guidance available on contract administration considerations when supporting contingency operations. The rule also adds language and a new subpart at 225.78 directing contracting officers to guidance on theater security cooperation efforts conducted in support of the geographic combatant commander, which may include support such as military exercises/training, base operations, and weapons procurement.

List of Subjects in 48 CFR Part 225

Government procurement.

Ynette R. Shelkin,
Editor, Defense Acquisition Regulations System.

Therefore, 48 CFR part 225 is amended as follows:

PART 225—FOREIGN ACQUISITION

1. The authority citation for 48 CFR part 225 continues to read as follows:

Authority: 41 U.S.C. 1303 and 48 CFR chapter 1.

2. Add section 225.7404 to read as follows:

§ 225.7404 Contract administration in support of contingency operations.

For additional guidance on contract administration considerations when supporting contingency operations, see PGI 225.7404.

3. Add subpart 225.78 to read as follows:

Subpart 225.78—Acquisitions in Support of Geographic Combatant Command's Theater Security Cooperation Efforts
Sec.
225.7801 Policy.

Subpart 225.78—Acquisitions in Support of Geographic Combatant Command's Theater Security Cooperation Efforts

§ 225.7801 Policy.

For guidance on procurement support of the geographic combatant command's theater security cooperation efforts, see PGI 225.78.

[FR Doc. 2011-10085 Filed 5-10-11; 8:45 am]

BILLING CODE 5001-08-P